DEPARTMENT OF AGRICULTURE

Foreign Agricultural Service

Trade Adjustment Assistance for Farmers

AGENCY: Foreign Agricultural Service, USDA.

ACTION: Notice.

The Administrator, Foreign Agricultural Service (FAS), today accepted a petition filed by the Burley Tobacco Growers Cooperative Association and the Burley Stabilization Corporation representing Burley tobacco growers in Kentucky, Tennessee, Virginia, North Carolina, West Virginia, Indiana, Ohio, and Missouri for trade adjustment assistance. The Administrator will determine within 40 days whether or not increasing Burley tobacco imports contributed importantly to a decline in domestic producer prices of 20 percent or more during the marketing period beginning October 1, 2005, and ending September 30, 2006. If the determination is positive, all producers who produce and market their Burley tobacco in Kentucky, Tennessee, Virginia, North Carolina, West Virginia, Indiana, Ohio, and Missouri will be eligible to apply to the Farm Service Agency for no cost technical assistance and for adjustment assistance payments.

FOR FURTHER INFORMATION CONTACT: Jean-Louis Pajot, Coordinator, Trade Adjustment Assistance for Farmers, FAS, USDA, (202) 720-2916, e-mail: trade.adjustment@fas.usda.gov.

Dated: February 5, 2007.
Michael W. Yost,
Administrator, Foreign Agricultural Service.

[FR Doc. E7-2776 Filed 2-15-07; 8:45 am]

BILLING CODE 3410-10-P